DEPARTMENT OF COMMERCE

National Telecommunications and Information Administration

[Docket No. 0908061222-91222-02]

RIN 0660-ZA29

State Broadband Data and Development Grant Program

AGENCY: National Telecommunications and Information Administration, U.S. Department of Commerce.

ACTION: Notice of Funds Availability; clarification.

SUMMARY: The National Telecommunications and Information Administration (NTIA), U.S. Department of Commerce, publishes this Notice to provide clarification of the information requirements for State Broadband Data and Development Grant Program awardees stated in the Notice of Funds Availability and Solicitation of Applications (Notice) published on July 8, 2009.

DATES: NTIA will accept applications until August 14, 2009, at 11:59 p.m. Eastern Time (ET).

ADDRESSES: All applications must be submitted through the online Grants.gov system no later than 11:59 p.m. ET on August 14, 2009, as more fully described in the Notice published on July 8, 2009.

FOR FURTHER INFORMATION CONTACT: Anne W. Neville, Program Director, State Broadband Data and Development Grant Program, National Telecommunications and Information Administration, U.S. Department of Commerce, 1401 Constitution Avenue, NW., Room 4716, Washington, DC 20230; by telephone at (202) 482-4949 or via electronic mail at broadbandmapping@ntia.doc.gov. Information about the State Broadband Data and Development Grant Program can also be obtained electronically via the Internet at http://www.ntia.doc.gov/broadbandgrants.

SUPPLEMENTARY INFORMATION: On July 8, 2009, NTIA published a Notice in the Federal Register to announce the availability of funds for the State Broadband Data and Development Grant Program pursuant to the authority provided in the American Recovery and Reinvestment Act of 2009 (Recovery Act), Public Law 111-5, 123 Stat. 115 (2009) and the Broadband Data Improvement Act (BDIA), Title 1, Public Law 110-385, 122 Stat. 4096 (2008).¹ The Technical Appendix of the Notice directs awardees to provide a timeline for anticipated dates of data delivery, including the provision of a substantially complete set of the following information to NTIA regarding each provider's service area no later than February 1, 2010: broadband service availability by service address and by shapefile for wireless services; residential broadband service pricing based on average revenue per end user and weighted average speed; broadband service infrastructure based, specifically last-mile and middle-mile connection points; and a listing of community anchor institutions.² The Technical Appendix also includes a description of the specific technical formats to be used when submitting the data. In addition to the information the Technical Appendix requires to be provided, the Notice requires applicants to provide a comprehensive description of plans to obtain all data required under the Technical Appendix regarding service provided by commercial or public providers as part of the application to be submitted between July 14, 2009 and August 14, 2009.³

¹ State Broadband Data and Development Grant Program, Notice of Funds Availability and Solicitation of Applications, 74 FR 32545 (July 8, 2009) (Notice).

² Notice at Technical Appendix A, 74 FR at 32557-32564. The Notice also states that applicants must demonstrate that they have the ability to provide a substantially complete set of all broadband mapping data on or before February 1, 2010 and complete the data collection on or before March 1, 2010. See id. at 32552, 32553.

³ Notice, 74 FR at 32552.

Technical Appendix Clarification

This Notice is intended to clarify the exact level of detail required by the information collection set forth in the following sections of the Technical Appendix.

1. Broadband Service Availability in Provider's Service Area

(a) Availability by Service Address—Service Associated With Specific Addresses

In lieu of reporting address-specific data, Awardees may satisfy the requirements of this section of the Technical Appendix by providing NTIA, for each facilities-based provider of broadband service in their state, a list of all census blocks of no greater than two square miles in area in which broadband service is available to end users, along with the associated service characteristics identified in the Technical Appendix. For those census blocks larger in area than two square miles, Awardees must provide NTIA, for each facilities-based provider of broadband service in their state, either the address-specific data as described in the original Notice or a list of all street segments with address ranges in such census blocks, as contained within the U.S. Census Bureau's TIGER ⁴/Line Files or such other database of at least equivalent granularity, in which broadband service is available to end users, along with the associated service characteristics identified in the Technical Appendix. Awardees are not required to report the 11 fields of data expressly denominated as “End User” fields in the Record Format chart. Additionally, Awardees are not required to provide Maximum Advertised Downstream or Maximum Advertised Upstream Speed at the address level and may satisfy this requirement by providing such speeds across each service area or local franchise area, by Metropolitan or Rural Statistical Area.

⁴ Topologically Integrated Geographic Encoding and Referencing (TIGER) is available at http://www.census.gov.

(b) Availability by Shapefile—Wireless Services not Provided to a Specific Address

With respect to the “Availability Area Shapefile Details,” item 4 will be satisfied if each polygon indicates the subscriber broadband service authorized maximum downstream and upstream speed available.

2. Residential Broadband Service Pricing in Provider's Service Area

(a) Average Revenue per End User and Weighted Average Speed

Awardees are not required to report average revenue per end user. Awardees must satisfy the remaining conditions of this section, provided that such data may be reported across a provider's service or local franchise area, by Metropolitan or Rural Statistical Area.

3. Broadband Service Infrastructure in Provider's Service Area

(a) Last-Mile Connection Points

Awardees are not required to report the data identified in this section. Nevertheless, to the extent an Awardee is unable to reasonably verify the network service area availability data required under Section 1 of the Technical Appendix by other means, the Awardee should be prepared to conduct verification by reference to the first points of aggregation in the networks (serving facilities) used by facilities-based providers to provide broadband service to end users, as described in this section of the Technical Appendix.

Clarification With Respect to Use of Data

NTIA intends no changes to the use of data collected hereunder, except to the extent that the clarifications and deferrals provided in this Notice may affect the type and level of detail of the data reported, or as otherwise expressly provided in this Notice. In light of these clarifications and deferrals, NTIA intends to identify all broadband providers by name on the broadband map, rather than leaving such identification to the discretion of the provider.⁵ Thus, an address-specific search of the map shall identify the names of all providers whose service is available in the corresponding census block or street segment.

⁵ In light of the clarification regarding reporting of availability data at a census block or street segment level rather than street address level, the definition of “Confidential Information” in section III of the Notice published on July 8, 2009, shall no longer include the identification of a service provider's specific Service Area. A service provider's “footprint” will likewise no longer be included in the definition of “Confidential Information.” Notice, 74 FR at 32549.

With respect to nondisclosure agreements between broadband service providers and awardees (see Notice Section V(B)), NTIA expects awardees to enter into such agreements upon the request of the service provider. Further, NTIA will condition its disclosure of Confidential Information to the FCC or other Federal agencies upon the agency's agreement to treat the data as confidential as provided in the Notice and as otherwise consistent with applicable law.

All other requirements provided in the Notice published on July 8, 2009, remain unchanged.

Dated: August 7, 2009.
Lawrence E. Strickling,
Assistant Secretary for Communications and Information.

[FR Doc. E9-19326 Filed 8-7-09; 4:15 pm]

BILLING CODE 3560-60-P